DEPARTMENT OF AGRICULTURE

Natural Resources Conservation Service

[Docket No. NRCS-2011-0011]

Notice of Proposed Changes to the National Handbook of Conservation Practices for the Natural Resources Conservation Service

AGENCY: Natural Resources Conservation Service (NRCS).

ACTION: Notice of availability of proposed changes in the NRCS National Handbook of Conservation Practices for public review and comment.

SUMMARY: Notice is hereby given of the intention of NRCS to issue a series of revised conservation practice standards in the National Handbook of Conservation Practices. These standards include: Alley Cropping (Code 311), Anionic Polyacrylamide (PAM) Application (Code 450), Conservation Crop Rotation (Code 328), Cover Crop (Code 340), Dam (Code 402), Dam, Diversion (Code 348), Farmstead Energy Improvement (Code 374), Forest Stand Improvement (Code 666), Irrigation Ditch Lining (Code 428), Irrigation Pipeline (Code 430), Irrigation Reservoir (Code 436), Irrigation System, Microirrigation (Code 441), Irrigation System, Sprinkler (Code 442), Irrigation System, Surface and Subsurface (Code 443), Irrigation System, Tailwater Recovery (Code 447), Irrigation Water Management (Code 449), Mulching (Code 484), Pipeline (Code 516), Pond (Code 378), Pumping Plant (Code 533), Renewable Energy System (Code 671), Residue and Tillage Management, Mulch Till (Code 345), Residue and Tillage Management No Till/Strip Till/Direct Seed (Code 329), Residue and Tillage Management, Ridge Till (Code 346), Residue Management, Seasonal (Code 344), Silvopasture Establishment (Code 381), Tree/Shrub Establishment (Code 612), Waste Recycling (Code 633), Windbreak/Shelterbelt—Establishment (Code 380), and Woody Residue Treatment (formerly Forest Slash Treatment) (Code 384).

NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective April 11, 2011.

Comment Date: Submit comments on or before May 11, 2011. Final versions of these new or revised conservation practice standards will be adopted after the close of the 30-day period, and after consideration of all comments.

ADDRESSES: Comments should be submitted, identified by Docket Number NRCS-2011-0011, using any of the following methods:

• Federal eRulemaking Portal: http://www.regulations.gov. Follow the instructions for submitting comments.

• E-mail: Anetra.Harbor@wdc.usda.gov. Include Docket Number NRCS-2011-0011 or “comment on practice standards” in the subject line of the message.

• Mail: Comment Submissions, Attention: Anetra L. Harbor, Policy Analyst, Resource Economics, Analysis and Policy Division, Department of Agriculture, Natural Resources Conservation Service, George Washington Carver Center, Room 1-1112D, Beltsville, Maryland 20705.

All comments received will become a matter of public record and will be posted without change to http://www.regulations.gov, including any personal information provided.

FOR FURTHER INFORMATION CONTACT: Wayne Bogovich, National Agricultural Engineer, Conservation Engineering Division, Department of Agriculture, Natural Resources Conservation Service, 1400 Independence Avenue, SW., Room 6136 South Building, Washington, DC 20250.

Electronic copies of these standards can be downloaded or printed from the following Web site: ftp://ftp-fc.sc.egov.usda.gov/NHQ/practice-standards/federal-register/. Requests for paper versions or inquiries may be directed to Wayne Bogovich, National Agricultural Engineer, Conservation Engineering Division, Department of Agriculture, Natural Resources Conservation Service, 1400 Independence Avenue, SW., Room 6136 South Building, Washington, DC 20250.

SUPPLEMENTARY INFORMATION: The amount of the proposed changes varies considerably for each of the Conservation Practice Standards addressed in this notice. To fully understand the proposed changes, individuals are encouraged to compare these changes with each standard's current version as shown at: http://www.nrcs.usda.gov/technical/Standards/nhcp.html. To aid in this comparison, following are highlights of the proposed revisions to each standard:

Alley Cropping (Code 311)—A new Purpose of “Develop Renewable Energy Systems” and accompanying additional Criteria were added.

Anionic Polyacrylamide (PAM) Application (Code 450)—A new Purpose of “Reduce Energy Use” and accompanying Criteria were added.

Conservation Crop Rotation (Code 328)—A new Purpose of “Reduce Energy Use” and accompanying Criteria were added to reduce energy by introducing legumes into the rotation to reduce synthetic nitrogen inputs and using crops with less consumptive water use. Where the practice applies was clarified. Criteria for a positive trend in organic matter from the General Criteria were changed to Additional Criteria to improve soil quality. Additional criteria were added to the Operation and Maintenance to evaluate the cropping sequence to ensure the objectives are being achieved.

Cover Crop (Code 340)—The Definition was revised to exclude harvesting the cover crop. An annual crop planted for harvest is covered under Conservation Cropping Rotation (Code 328). The purpose to produce supplemental forage was removed. A Purpose and accompanying Criteria were added to promote biological nitrogen fixation and “Reduce Energy Use” by using legume cover crops. Additional Operation and Maintenance criteria were added to evaluate the onsite application of the practice to ensure the planned purposes are achieved.

Dam (Code 402)—A new Purpose of “Develop Renewable Energy Systems” and accompanying additional Criteria were added.

Dam, Diversion (Code 348)—A new Purpose of “Develop Renewable Energy Systems” and accompanying additional Criteria were added.

Farmstead Energy Improvement (Code 374)—The title was changed from “On-Farm Equipment Efficiency Improvements” to “Farmstead Energy Improvement.” The Definition was changed. A new Purpose of “Reduce Energy Use” and accompanying Criteria were added. Technologies with corresponding industry standards were added to the Criteria section.

Forest Stand Improvement (Code 666)—A new Purpose of “Develop Renewable Energy Systems” and accompanying additional Criteria were added.

Irrigation Ditch Lining (Code 428)—A new Purpose of “Reduce Energy Use” and accompanying Criteria were added.

Irrigation Pipeline (Code 430)—New Purposes of “Reduce Energy Use” and “Develop Renewable Energy Systems” along with accompanying Criteria were added.

Irrigation Reservoir (Code 436)—New Purposes of “Reduce Energy Use” and “Develop Renewable Energy Systems” along with accompanying Criteria were added.

Irrigation System, Microirrigation (Code 441)—The Unit was changed from (No. & Ac.) to (Ac.). A new Purpose of “Reduce Energy Use” and accompanying Criteria were added. The filter permissible design head loss was changed, and a requirement for an Irrigation Water Management Plan was added.

Irrigation System, Sprinkler (Code 442)—A new Purpose of “Reduce Energy Use” and accompanying Criteria were added.

Irrigation System, Surface and Subsurface (Code 443)—A new Purpose of “Reduce Energy Use” and accompanying Criteria were added.

Irrigation System, Tailwater Recovery (Code 447)—A new Purpose of “Reduce Energy Use” and accompanying additional Criteria were added.

Irrigation Water Management (Code 449)—A new Purpose of “Reduce Energy Use” and accompanying additional Criteria were added.

Mulching (Code 484)—A new Purpose of “Reduce Energy Use” and accompanying additional Criteria were added. Criteria were added to the Operation and Maintenance section of the standard to evaluate the effectiveness of the practice to achieve the planned purpose(s).

Pipeline (Code 516)—New Purposes of “Reduce Energy Use” and “Develop Renewable Energy Systems” along with accompanying Criteria were added.

Pond (Code 378)—A new Purpose of “Develop Renewable Energy Systems” and accompanying additional Criteria were added.

Pumping Plant (Code 533)—A new Purpose of “Reduce Energy Use” and accompanying additional Criteria were added. The Criteria Applicable to All Purposes removed criteria for Photovoltaic Panels, Windmills, and Water Powered Pumps (hydraulic rams), and removed Additional Criteria Applicable to the Improvement of Energy Efficiency.

Renewable Energy System (Code 671)—This is a new conservation practice standard for the purpose of “Develop Renewable Energy Systems.”

Residue and Tillage Management, Mulch Till (Code 345)—A new Purpose of “Reduce Energy Use” and accompanying additional Criteria were added. The revision combined Additional Criteria for wind and water erosion into one set of criteria. Criteria were added to the Operation and Maintenance section of the practice to evaluate on-site performance of the practice to determine if the purpose(s) are being achieved.

Residue and Tillage Management No Till/Strip Till/Direct Seed (Code 329)—A new Purpose of “Reduce Energy Use” and accompanying additional Criteria were added. Additional Criteria to Reduce Sheet/Rill Erosion; Reduce Wind Erosion; and Reduce Soil Particulate Emissions were combined into one set of criteria. The Operation and Maintenance had additions to evaluate the function of the practice onsite to ensure the purpose(s) is/are achieved.

Residue and Tillage Management, Ridge Till (Code 346)—A new Purpose of “Reduce Energy Use” and accompanying additional Criteria were added. Criteria were added to the Operation and Maintenance section of the standard to evaluate the effectiveness of the practice to achieve the planned Purpose(s).

Residue Management, Seasonal (Code 344)—A new Purpose of “Develop Renewable Energy Systems” and accompanying additional Criteria were added to provide crop residues for biofuel feedstocks and additional criteria to harvest crop residues for biofuel feedstocks for renewable energy production. Where Practice Applies section was revised to include all cropland where biomass is removed for biofuel feedstocks. Additional Operation and Maintenance criteria were added to evaluate the onsite application of the practice to ensure the planned purposes are achieved.

Silvopasture Establishment (Code 381)—A new Purpose of “Develop Renewable Energy Systems” and accompanying additional Criteria were added.

Tree/Shrub Establishment (Code 612)—A new Purpose of “Develop Renewable Energy Systems” and accompanying additional Criteria were added.

Waste Recycling (Code 633)—The title was changed from “Waste Utilization” to “Waste Recycling.” A new Purpose of “Reduce Energy Use” and accompanying Criteria were added. The application is more focused to processing and recycling agriculture waste material into a valuable by-product.

Windbreak/Shelterbelt—Establishment (Code 380)—A new Purpose of “Reduce Energy Use” and accompanying additional Criteria were added.

Woody Residue Treatment (formerly Forest Slash Treatment) (Code 384)—The title was changed from “Forest Slash Treatment” to “Woody Residue Treatment.” A new Purpose of “Develop Renewable Energy Systems” and accompanying additional Criteria were added.

Signed this 4th day of April 2011, in Washington, DC.
Dave White,
Chief, Natural Resources Conservation Service.

[FR Doc. 2011-8483 Filed 4-8-11; 8:45 am]

BILLING CODE 3410-16-P